DEPARTMENT OF ENERGY

Federal Energy Regulatory Commission

Combined Notice of Filings #1

Take notice that the Commission received the following exempt wholesale generator filings:

Docket Numbers: EG22-55-000.

Applicants: Rabbitbrush Solar, LLC.

Description: Notice of Self-Certification of Exempt Wholesale Generator of Rabbitbrush Solar, LLC.

Filed Date: 2/16/22.

Accession Number: 20220216-5168.

Comment Date: 5 p.m. ET 3/9/22.

Take notice that the Commission received the following electric rate filings:

Docket Numbers: ER20-1662-001.

Applicants: Crystal Lake Wind Energy I, LLC.

Description: Midcontinent Independent System Operator, Inc. submits tariff filing per 35.19a(b): Refund Report_Crystal Lake Wind I, LLC to be effective N/A.

Filed Date: 2/16/22.

Accession Number: 20220216-5182.

Comment Date: 5 p.m. ET 3/9/22.

Docket Numbers: ER20-2222-001.

Applicants: Crystal Lake Wind III, LLC.

Description: Midcontinent Independent System Operator, Inc. submits tariff filing per 35.19a(b): Refund Report_Crystal Lake Wind III, LLC to be effective N/A.

Filed Date: 2/16/22.

Accession Number: 20220216-5185.

Comment Date: 5 p.m. ET 3/9/22.

Docket Numbers: ER20-2543-001.

Applicants: Crystal Lake Wind Energy II, LLC.

Description: Midcontinent Independent System Operator, Inc. submits tariff filing per 35.19a(b): Refund Report_Crystal Lake Wind II, LLC to be effective N/A.

Filed Date: 2/16/22.

Accession Number: 20220216-5183.

Comment Date: 5 p.m. ET 3/9/22.

Docket Numbers: ER21-511-005.

Applicants: Safe Harbor Water Power Corporation.

Description: Compliance filing: Settlement Compliance Filing to be effective 2/1/2021.

Filed Date: 2/16/22.

Accession Number: 20220216-5155.

Comment Date: 5 p.m. ET 3/9/22.

Docket Numbers: ER21-1215-002.

Applicants: Assembly Solar I, LLC.

Description: Midcontinent Independent System Operator, Inc. submits tariff filing per 35.19a(b): Refund Report_Assembly Solar I, LLC to be effective N/A.

Filed Date: 2/16/22.

Accession Number: 20220216-5180.

Comment Date: 5 p.m. ET 3/9/22.

Docket Numbers: ER22-323-001.

Applicants: Exelon Generation Company, LLC.

Description: Compliance filing: Constellation Energy Generation, LLC submits tariff filing per 35: Compliance Filing for Nuclear Operating Services Agreements to be effective 2/1/2022.

Filed Date: 2/16/22.

Accession Number: 20220216-5109.

Comment Date: 5 p.m. ET 3/9/22.

Docket Numbers: ER22-325-001.

Applicants: Calvert Cliffs Nuclear Power Plant, LLC.

Description: Compliance filing: Compliance Filing for NOSA Certificate of Compliance to be effective 2/1/2022.

Filed Date: 2/16/22.

Accession Number: 20220216-5111.

Comment Date: 5 p.m. ET 3/9/22.

Docket Numbers: ER22-326-001.

Applicants: Exelon FitzPatrick, LLC.

Description: Compliance filing: Constellation FitzPatrick, LLC submits tariff filing per 35: Compliance Filing for NOSA Certificate of Concurrence to be effective 2/1/2022.

Filed Date: 2/16/22.

Accession Number: 20220216-5115.

Comment Date: 5 p.m. ET 3/9/22.

Docket Numbers: ER22-327-001.

Applicants: Nine Mile Point Nuclear Station, LLC.

Description: Compliance filing: Compliance Filing for NOSA Certificate of Concurrence to be effective 2/1/2022.

Filed Date: 2/16/22.

Accession Number: 20220216-5118.

Comment Date: 5 p.m. ET 3/9/22.

Docket Numbers: ER22-329-001.

Applicants: R.E. Ginna Nuclear Power Plant, LLC.

Description: Compliance filing: Compliance Filing for NOSA Certificate of Concurrence to be effective 2/1/2022.

Filed Date: 2/16/22.

Accession Number: 20220216-5120.

Comment Date: 5 p.m. ET 3/9/22.

Docket Numbers: ER22-1057-000.

Applicants: Midcontinent Independent System Operator, Inc.

Description: § 205(d) Rate Filing: 2022-02-16_SA 3394 UEC-Blue Bird Solar 1st Rev GIA (J817) to be effective 2/4/2022.

Filed Date: 2/16/22.

Accession Number: 20220216-5046.

Comment Date: 5 p.m. ET 3/9/22.

Docket Numbers: ER22-1058-000.

Applicants: Midcontinent Independent System Operator, Inc.

Description: § 205(d) Rate Filing: 2022-02-16_SA 3475 ATXI-City of Roses Wind Energy 1st Rev GIA (J848) to be effective 2/8/2022.

Filed Date: 2/16/22.

Accession Number: 20220216-5048.

Comment Date: 5 p.m. ET 3/9/22.

Docket Numbers: ER22-1059-000.

Applicants: New Market Solar ProjectCo 1, LLC.

Description: Baseline eTariff Filing: Certificate of Concurrence to be effective 2/17/2022.

Filed Date: 2/16/22.

Accession Number: 20220216-5059.

Comment Date: 5 p.m. ET 3/9/22.

Docket Numbers: ER22-1060-000.

Applicants: ISO New England Inc.

Description: ISO New England Inc., submitted a Petition for a Temporary Tariff Waiver with a request for Shortened Comment Period and Expedited Action.

Filed Date: 2/15/22.

Accession Number: 20220215-5231.

Comment Date: 5 p.m. ET 2/22/22.

Docket Numbers: ER22-1061-000.

Applicants: PJM Interconnection, L.L.C.

Description: § 205(d) Rate Filing: Amendment to ISA No. 4311, Queue No. AE1-035 (amend) to be effective 2/24/2020.

Filed Date: 2/16/22.

Accession Number: 20220216-5091.

Comment Date: 5 p.m. ET 3/9/22.

Docket Numbers: ER22-1062-000.

Applicants: Midcontinent Independent System Operator, Inc.

Description: § 205(d) Rate Filing: 2022-02-16_Improve the Accuracy of the Forecast Maximum Limit for DIR to be effective 4/18/2022.

Filed Date: 2/16/22.

Accession Number: 20220216-5110.

Comment Date: 5 p.m. ET 3/9/22.

Docket Numbers: ER22-1063-000.

Applicants: AEP Texas Inc.

Description: § 205(d) Rate Filing: AEPTX-Appaloosa Run Wind 1st A&R GIA to be effective 2/9/2022.

Filed Date: 2/16/22.

Accession Number: 20220216-5117.

Comment Date: 5 p.m. ET 3/9/22.

Docket Numbers: ER22-1064-000.

Applicants: Arizona Public Service Company.

Description: § 205(d) Rate Filing: Rate Schedule No. 217 Exhibit B Revisions to be effective 4/18/2022.

Filed Date: 2/16/22.

Accession Number: 20220216-5141.

Comment Date: 5 p.m. ET 3/9/22.

Docket Numbers: ER22-1065-000.

Applicants: Rabbitbrush Solar, LLC.

Description: Baseline eTariff Filing: Market-Based Rate Application and Request for Expedited Action to be effective 2/17/2022.

Filed Date: 2/16/22.

Accession Number: 20220216-5189.

Comment Date: 5 p.m. ET 3/9/22.

Take notice that the Commission received the following electric securities filings:

Docket Numbers: ES22-27-000.

Applicants: Evergy Missouri West, Inc.

Description: Supplement to Application Under Section 204 of the Federal Power Act for Authorization to Issue Securities of Evergy Missouri West, Inc.

Filed Date: 2/15/22.

Accession Number: 20220215-5233.

Comment Date: 5 p.m. ET 2/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2022.
Debbie-Anne A. Reese,
Deputy Secretary.

[FR Doc. 2022-03802 Filed 2-22-22; 8:45 am]

BILLING CODE 6717-01-P